DEPARTMENT OF THE INTERIOR

Bureau of Land Management

[MT-926-00-1910-PE-4677-UT940]

Montana: Filing of Amended Protraction Diagram Plats

AGENCY: Bureau of Land Management, Montana State Office, Interior.

ACTION: Notice.

SUMMARY: The plats of the amended protraction diagram accepted March 23, 2001, of the following described lands are scheduled to be officially filed in the Montana State Office, Billings Montana, thirty (30) days from the date of this publication.

Tps. 5, 6, and 7 S., Rs. 2, 3, and 4 E.

The plat, representing the Amended Protraction Diagram 1 Index of unsurveyed Townships 5, 6, and 7 South, Ranges 2, 3, and 4 East, Principal Meridian, Montana, was accepted March 23, 2001.

T. 5 S., R. 3 E.

The plat, representing Amended Protraction Diagram 1 of unsurveyed Township 5 South, Range 3 East, Principal Meridian, Montana, was accepted March 23, 2001.

T. 6 S., R. 3 E.

The plat, representing Amended Protraction Diagram 1 of unsurveyed Township 6 South, Range 3 East, Principal Meridian, Montana, was accepted March 23, 2001.

T. 7 S., R. 2 E.

The plat, representing Amended Protraction Diagram 1 of unsurveyed Township 7 South, Range 2, Principal Meridian, Montana, was accepted March 23, 2001.

T. 7 S., R. 4 E.

The plat, representing Amended Protraction Diagram 1 of unsurveyed Township 7 South, Range 4 East, Principal Meridian, Montana, was accepted March 23, 2001.

The amended protraction diagrams were prepared at the request of the U.S. Forest Service to accommodate Revision of Primary Base Quadrangle Maps for the Geometronics Service Center.

A copy of the preceding described plats of the amended protraction diagrams accepted March 23, 2001, will be immediately placed in the open files and will be available to the public as a matter of information.

If a protest against these amended protraction diagrams, accepted March 23, 2001, as shown on these plats, is received prior to the date of the official filings, the filings will be stayed pending consideration of the protests.

These particular plats of the amended protraction diagrams will not be officially filed until the day after all protests have been accepted or dismissed and become final or appeals from the dismissal affirmed.

FOR FURTHER INFORMATION CONTACT: Bureau of Land Management, 5001 Southgate Drive, P.O. Box 36800, Billings, Montana 59107-6800.

Dated: March 27, 2001.
Steven G. Schey,
Chief Cadastral Surveyor, Division of Resources.

[FR Doc. 01-8964 Filed 4-10-01; 8:45 am]

BILLING CODE 4310-DN-P